DEPARTMENT OF ENERGY

Federal Energy Regulatory Commission

[Project No. 2077-119]

Great River Hydro, LLC; Notice of Application Accepted for Filing and Soliciting Comments, Motions To Intervene, and Protests

Take notice that the following hydroelectric application has been filed with the Commission and is available for public inspection:

a. Application Type: Amendment of License.

b. Project No: 2077-119.

c. Date Filed: January 21, 2020.

d. Applicant: Great River Hydro, LLC (licensee).

e. Name of Project: Fifteen Mile Falls Hydroelectric Project.

f. Location: The project is located on the Connecticut River, near the Town of Littleton in Grafton County, New Hampshire, and Caledonia County, Vermont.

g. Filed Pursuant to: Federal Power Act, 16 U.S.C. 791a-825r.

h. Applicant Contact: John Ragonese, FERC License Manager, Great River Hydro, LLC, 40 Pleasant Street, Suite 102, Portsmouth, NH 03801; telephone: (603) 498-2851; email: jragonese@greatriverhydro.com.

i. FERC Contact: Marybeth Gay, (202) 502-6125, Marybeth.Gay@ferc.gov.

j. Deadline for filing comments, motions to intervene, and protests: May 27, 2020.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee proposes to amend the license to allow for the construction and operation of an additional 4.7 MW unit at the Moore Development for the primary purpose of providing the required minimum flow of 320 cubic feet per second (cfs), or inflow if less, more efficiently than current operation. The licensee proposes structural modifications to the Moore Development, including: (1) a new modified intake with an accompanying trashrack and headgate providing flow to a new penstock that would be installed on the upstream face of the dam in the original additional intake location adjacent to the existing Unit 1 intake; (2) a 7-foot-diameter steel pipe would exit the downstream face of the dam on the Vermont side of the existing transmission substation (owned by New England Power Co., d.b.a. National Grid); (3) a new 42 foot by 30 foot reinforced concrete powerhouse constructed on the Vermont side of the existing powerhouse; (4) a dissolved oxygen enhancement system consisting of a pipe with aeration devices that discharge water into the new powerhouse tailrace, and; (5) a new tailrace channel would extend into the existing tailrace bound by concrete or sheet pile retaining walls on either side. With the proposed modifications to the Moore Development, the maximum hydraulic capacity would be increased by a maximum of 430 cfs, while the installed capacity would be increased from the current 154.8 MW to 159.5 MW. The licensee does not propose any changes to the project's existing operating regime, with exception of operating the Moore Unit 5 as the priority unit to provide the minimum flow below the Moore Development.

l. In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

m. The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: April 27, 2020.
Kimberly D. Bose,
Secretary.

[FR Doc. 2020-09320 Filed 4-30-20; 8:45 am]

BILLING CODE 6717-01-P